DEPARTMENT OF DEFENSE

Defense Acquisition Regulations System

Commercial Item Handbook

AGENCY: Defense Acquisition Regulations System, Department of Defense (DoD).

ACTION: Request for public input.

SUMMARY: DoD has updated its Commercial Item Handbook. The purpose of the Handbook is to help acquisition personnel develop sound business strategies for procuring commercial items. DoD is seeking industry input on the contents before finalizing the Handbook.

DATES: Comments should be submitted in writing to the address shown below on or before November 30, 2011, to be considered in the formation of the final Handbook.

ADDRESSES: You may submit comments to the Office of the Director, Defense Procurement and Acquisition Policy, Attention OUSD(AT&L)DPAP/CPIC, 3060 Defense Pentagon, Washington, DC 20301-3060. Comments also may be submitted by e-mail to CI_Handbook@osd.mil.

FOR FURTHER INFORMATION CONTACT: Ms. Cassandra R. Freeman, 703-693-7062, or by e-mail at Cassandra.Freeman@osd.mil.

SUPPLEMENTARY INFORMATION: On July 1, 2009, DoD published a request for public input on the draft Commercial Item Handbook issued by the Office of the Secretary of Defense (Acquisition, Technology, and Logistics) in November 2001. Comments were received and incorporated. A draft of the updated Commercial Item Handbook can be found at http://www.acq.osd.mil/dpap/cpic/draftcihandbook08012011.docx. DoD is seeking industry input on the contents before finalizing the Handbook.

Ynette R. Shelkin,
Editor, Defense Acquisition Regulations System.

[FR Doc. 2011-25048 Filed 9-28-11; 8:45 am]

BILLING CODE P